Proclamation 10740 of April 30, 2024

National Physical Fitness and Sports Month, 2024

By the President of the United States of America

A Proclamation

Sports and physical fitness reflect the best of the American spirit: hard work, collaboration, and big dreams. Some of my favorite memories and most enduring values come from the time I spent playing football as a kid. But you do not have to compete in organized sports to benefit from physical activity—being active in any way helps to improve your health, clear your mind, and make our Nation stronger. During National Physical Fitness and Sports Month, we commit to doing more to help give every American the opportunity to exercise and live a healthy life.

Whether doing yard work, walking to the store, going on a run with a friend, or playing basketball in the park, exercise makes us healthier and stronger. Exercise lowers the risk of heart disease, diabetes, stroke, certain cancers, and more; and it increases quality of life. It boosts mental health, easing depression and anxiety while improving memory and sleep. It helps young people build lasting friendships—teaching key lessons about discipline, teamwork, and winning and losing and preparing them to be leaders.

But not everyone has that same chance. Today, less than half of all Americans live within a half-mile of a park. Tens of millions of children do not have access to a playground within a 10-minute walk of their home. Cash-strapped schools are too often cutting physical education programs. Youth sports leagues can be expensive, leaving too many kids with few options. The United States of America can do better.

My Administration has kept that in mind from the start. We are making the biggest investment in infrastructure in generations, including $800 million to make sidewalks and crosswalks across the Nation safer for people to walk, run, bike, and skate. I signed the biggest investment in fighting climate change ever—protecting and restoring our great outdoors, which offer so many cherished recreational activities. We are providing over $300 million to help cities and towns build new parks and expand opportunities for outdoor recreation. To make National Parks more accessible to Americans, I signed legislation that made National Park entry free for our veterans and members of our Gold Star Families. We are also working to repair the bridges and roads that lead to our National Parks so more families can visit these natural treasures.

At the same time, I convened the first White House Conference on Hunger, Nutrition, and Health in a half-century, releasing a national strategy to end hunger and, among other things, make it easier for Americans to exercise. Since then, 14 major sports leagues and players associations have signed agreements with my Council on Sports, Fitness, and Nutrition to expand access to physical activity, integrate messaging and education about nutrition, and promote healthy lifestyles to the millions of people who engage with their programs every year. My Administration galvanized nearly $10 billion from companies, non-profits, and other stakeholders to meet that goal—helping with everything from making youth sports more affordable to taking children on trips to national parks. Meanwhile, the Centers for Disease Control and Prevention is working with local governments, schools, and community organizations to get 27 million Americans more active by 2027 by working with communities to implement evidence-based strategies for increasing physical activity across various sectors and settings. The Department of Health and Human Services' “Move Your Way” campaign launched a website with a tool that helps you build an exercise plan—go to health.gov/moveyourway.

We can all come together, feel better, and live longer if we stay active, exercise, and keep moving. It makes us healthier, and that is good for our families, our economy, and our Nation. This month, I encourage all Americans to do more—walk to the store, join a local sports team, sign up for a class or a race, and get out and enjoy the natural wonders of America. I will keep working to make sure everyone has the same fair shot to do so.

NOW, THEREFORE, I, JOSEPH R. BIDEN JR., President of the United States of America, by virtue of the authority vested in me by the Constitution and the laws of the United States, do hereby proclaim May 2024 as National Physical Fitness and Sports Month. I call upon the people of the United States to make daily physical activity a priority, to support efforts to increase access to sports opportunities in their communities, and to pursue physical fitness as an essential part of healthy living.

IN WITNESS WHEREOF, I have hereunto set my hand this thirtieth day of April, in the year of our Lord two thousand twenty-four, and of the Independence of the United States of America the two hundred and forty-eighth.

[FR Doc. 2024-09820

Filed 5-2-24; 8:45 am]

Billing code 3395-F4-P